DEPARTMENT OF LABOR

Office of the Secretary

Notice of Publication of 2012 Update to the Department of Labor's List of Goods From Countries Produced by Child Labor or Forced Labor

AGENCY: Bureau of International Labor Affairs, Department of Labor.

ACTION: Announcement of public availability of updated list of goods.

SUMMARY: This notice announces the publication of an updated list of goods—along with countries of origin—that the Bureau of International Labor Affairs (ILAB) has reason to believe are produced by child labor or forced labor in violation of international standards (List). ILAB is required to develop and make available to the public the List pursuant to the Trafficking Victims Protection Reauthorization Act of 2005 (TVPRA).

FOR FURTHER INFORMATION CONTACT: Director, Office of Child Labor, Forced Labor, and Human Trafficking, Bureau of International Labor Affairs, U.S. Department of Labor at (202) 693-4843 (this is not a toll-free number).

SUPPLEMENTARY INFORMATION: The Bureau of International Labor Affairs (ILAB) announces the publication of the fourth edition of the List of Goods Produced by Child Labor or Forced Labor (List), pursuant to the Trafficking Victims Protection Reauthorization Act (TVPRA) of 2005. ILAB published the initial List on September 10, 2009, and has since published updated editions annually. The 2012 edition adds four goods (baked goods, beef, fish and thread/yarn), from 3 countries (South Sudan, Suriname and Vietnam), to the List.

Section 105(b) of the TVPRA of 2005 mandated that ILAB develop and publish a list of goods from countries that ILAB “has reason to believe are produced with child labor or forced labor in violation of international standards.” ILAB's Office of Child Labor, Forced Labor, and Human Trafficking (OCFT) carries out this mandate. The primary purposes of the List are to raise public awareness about the incidence of child labor and forced labor in the production of goods in the countries listed and to promote efforts to eliminate such practices. A full report, including the updated List and a discussion of the List's context, scope, methodology, and limitations, as well as Frequently Asked Questions and a bibliography of sources, are available on the DOL Web site at: http://www.dol.gov/ilab/programs/ocft/tvpra.htm.

Signed at Washington, DC, this 17th day of September, 2012.
Carol Pier,
Acting Deputy Undersecretary for International Affairs.

[FR Doc. 2012-23402 Filed 9-26-12; 8:45 am]

BILLING CODE 4510-28-P